DEPARTMENT OF THE INTERIOR

National Park Service

Notice of Inventory Completion: San Francisco State University, San Francisco, CA

AGENCY: National Park Service, Interior.

ACTION: Notice.

Notice is here given in accordance with the Native American Graves Protection and Repatriation Act (NAGPRA), 25 U.S.C. 3003, of the completion of an inventory of human remains in the control of San Francisco State University, San Francisco, CA. The human remains were removed from an unknown site in Stanislaus County, CA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by San Francisco State University professional staff in consultation with representatives of the Santa Rosa Indian Community of the Santa Rosa Rancheria, California (also known as the Tachi Yokut Tribe).

On an unknown date, human remains representing a minimum of one individual were removed from an unknown site (CA-Sta-UNK) in Stanislaus County, CA. The human remains were encased in a soil matrix inside a box marked “Sta-?” indicating removal from a Native American archeological site in Stanislaus County. In addition, the morphology of the malar, or cheekbone area, indicates Native American ancestry. No known individual was identified. No associated funerary objects are present.

Based on ethnography and consultation with the Santa Rosa Indian Community of the Santa Rosa Rancheria, California and the Tuolumne Band of Me-Wuk Indians of the Tuolumne Rancheria of California, it has been determined that Stanislaus County is within the historically documented territory of the Northern Valley Yokut and Central Sierra Miwok tribes, represented by the present-day Santa Rosa Indian Community of the Santa Rosa Rancheria, California and the Tuolumne Band of Me-Wuk Indians of the Tuolumne Rancheria of California.

Officials of San Francisco State University have determined that, pursuant to 25 U.S.C. 3001(9-10), the human remains described above represent the physical remains of one individual of Native American ancestry. Officials of San Francisco State University also have determined that, pursuant to 25 U.S.C. 3001 (2), there is a relationship of shared group identity that can be reasonably traced between the Native American human remains and the Santa Rosa Indian Community of the Santa Rosa Rancheria, California and the Tuolumne Band of Me-Wuk Indians of the Tuolumne Rancheria of California. The Santa Rosa Indian Community of the Santa Rosa Rancheria, California has claimed the human remains from site Ca-Sta-UNK.

Representatives of any other Indian tribe that believes itself to be culturally affiliated with the human remains should contact Jeff Fentress, NAGPRA Coordinator, Department of Anthropology, San Francisco State University, 1600 Holloway Ave., San Francisco, CA 95132, telephone (415) 338-3075, before March 3, 2006. Repatriation of the human remains to the Santa Rosa Indian Community of the Santa Rosa Rancheria, California may proceed after that date if no additional claimants come forward.

San Francisco State University is responsible for informing the Santa Rosa Indian Community of the Santa Rosa Rancheria, California and the Tuolumne Band of Me-Wuk Indians of the Tuolumne Rancheria of California that this notice has been published.

Dated: January 9, 2006.
Sherry Hutt,
Manager, National NAGPRA Progam.

[FR Doc. E6-1274 Filed 1-31-06; 8:45 am]

BILLING CODE 4312-50-S